DEPARTMENT OF ENERGY

Federal Energy Regulatory Commission

Combined Notice of Filings #1

Take notice that the Commission received the following electric corporate filings:

Docket Numbers: EC15-98-000.

Applicants: Union Power Partners, L.P., Entergy Arkansas, Inc., Entergy Gulf States Louisiana, L.L.C., Entergy Texas, Inc.

Description: Amendment to March 17, 2015 Joint Application for Section 203 Authorization of Union Power Partners, L.P., Entergy Arkansas, Inc., Entergy Gulf States Louisiana, L.L.C., and Entergy New Orleans, Inc.

Filed Date: 9/18/15.

Accession Number: 20150918-5251.

Comments Due: 5 p.m. ET 10/9/15.

Take notice that the Commission received the following electric rate filings:

Docket Numbers: ER10-3117-004; ER10-3115-003; ER13-445-006; ER14-2823-004; ER11-4060-006; ER11-4061-006; ER15-1170-002; ER15-1171-002; ER15-1172-002; ER15-1173-002.

Applicants: Lea Power Partners, LLC, Waterside Power, LLC, Badger Creek Limited, Double C Generation Limited Partnership, High Sierra Limited, Kern Front Limited, Bear Mountain Limited, Chalk Cliff Limited, Live Oak Limited, McKittrick Limited.

Description: Notice of Change in Status Lea Power Partners, LLC, et al.

Filed Date: 9/21/15.

Accession Number: 20150921-5050.

Comments Due: 5 p.m. ET 10/13/15.

Docket Numbers: ER11-3417-010; ER10-2895-014; ER14-1964-005; ER13-2143-007; ER10-3167-006; ER13-203-006; ER11-2292-014; ER11-3942-013; ER11-2293-014; ER10-2917-014; ER11-2294-013; ER12-2447-012; ER13-1613-007; ER10-2918-015; ER10-2920-014; ER11-3941-012; ER10-2921-014; ER10-2922-014; ER13-1346-006; ER10-2966-014; ER11-2383-009; ER10-3178-007.

Applicants: Alta Wind VIII, LLC, Bear Swamp Power Company LLC, BIF II Safe Harbor Holdings, LLC, Black Bear Development Holdings, LLC, Black Bear Hydro Partners, LLC, Black Bear SO, LLC, Brookfield Energy Marketing Inc., Brookfield Energy Marketing LP, Brookfield Energy Marketing US LLC, Brookfield Power Piney & Deep Creek LLC, Brookfield Renewable Energy Marketing US LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC.

Description: Notice of Change in Status of the Brookfield Companies.

Filed Date: 9/18/15.

Accession Number: 20150918-5257.

Comments Due: 5 p.m. ET 10/9/15.

Docket Numbers: ER15-1406-002.

Applicants: Midcontinent Independent System Operator, Inc.

Description: Report Filing: 2015-09-21_SA 2766 Refund Report of ATC-City of Elkhorn CFA to be effective N/A.

Filed Date: 9/21/15.

Accession Number: 20150921-5049.

Comments Due: 5 p.m. ET 10/13/15.

Docket Numbers: ER15-2541-000.

Applicants: Burgess Capital LLC.

Description: Amendment to August 27, 2015 Burgess Capital LLC tariff filing.

Filed Date: 9/17/15.

Accession Number: 20150917-5163.

Comments Due: 5 p.m. ET 10/8/15.

Docket Numbers: ER15-2650-000.

Applicants: ISO New England Inc., New England Power Pool Participants Committee.

Description: Section 205(d) Rate Filing: Monthly Qualified Capacity Changes to be effective 10/13/2015.

Filed Date: 9/14/15.

Accession Number: 20150914-5169.

Comments Due: 5 p.m. ET 10/5/15.

Docket Numbers: ER15-2675-000.

Applicants: PJM Interconnection, L.L.C.

Description: Section 205(d) Rate Filing: First Revised Construction Service Agreement No. 3477, Queue No. R11/Z2-109 to be effective 8/19/2015.

Filed Date: 9/18/15.

Accession Number: 20150918-5181.

Comments Due: 5 p.m. ET 10/9/15.

Docket Numbers: ER15-2676-000.

Applicants: Cedar Bluff Wind, LLC.

Description: Baseline eTariff Filing: Cedar Bluff Wind, LLC Application for MBR Authority to be effective 11/17/2015.

Filed Date: 9/18/15.

Accession Number: 20150918-5186.

Comments Due: 5 p.m. ET 10/9/15.

Docket Numbers: ER15-2677-000.

Applicants: Pacific Gas and Electric Company.

Description: Section 205(d) Rate Filing: Revisions to PWRPA's Customer Service Charge to be effective 9/21/2015.

Filed Date: 9/18/15.

Accession Number: 20150918-5208.

Comments Due: 5 p.m. ET 10/9/15.

Take notice that the Commission received the following electric securities filings:

Docket Numbers: ES15-71-000.

Applicants: PPL Electric Utilities Corporation.

Description: Application under Section 204 of the Federal Power Act of PPL Electric Utilities Corporation.

Filed Date: 9/18/15.

Accession Number: 20150918-5245.

Comments Due: 5 p.m. ET 10/9/15.

Docket Numbers: ES15-72-000.

Applicants: Interstate Power and Light Company.

Description: Application under Section 204 of the Federal Power Act of Interstate Power and Light Company.

Filed Date: 9/18/15.

Accession Number: 20150918-5248.

Comments Due: 5 p.m. ET 10/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2015.
Nathaniel J. Davis, Sr.,
Deputy Secretary.

[FR Doc. 2015-24370 Filed 9-24-15; 8:45 am]

BILLING CODE 6717-01-P